EXPORT-IMPORT BANK

[Public Notice: 2024-6015]

Agency Information Collection Activities: Submission to the Office of Management and Budget for Review and Approval; Comment Request; Export-Import Bank Notice of Claim Proof of Loss Medium- and Long-Term Guarantee

AGENCY: Export-Import Bank of the United States.

ACTION: Notice of information collection; request for comment.

SUMMARY: The Export-Import Bank of the United States (EXIM), pursuant to the Export-Import Bank Act of 1945, as amended, facilitates the finance of the export of U.S. goods and services. As part of its continuing effort to reduce paperwork and respondent burden, EXIM invites the general public and other Federal agencies to comment on the proposed information collection, as required by the paperwork Reduction Act of 1995.

DATES: Comments must be received on or before July 23, 2024 to be assured of consideration.

ADDRESSES: Comments may be submitted electronically on www.regulations.gov (EIB 10-05), by email to Donna Schneider, donna.schneider@exim.gov, or by mail to Donna Schneider, Export-Import Bank of the United States, 811 Vermont Ave. NW, Washington, DC 20571.

FOR FURTHER INFORMATION CONTACT: To request additional information please contact Donna Schneider, donna.schneider@exim.gov, 202-565-3612.

SUPPLEMENTARY INFORMATION: This form will enable EXIM to identify the specific details necessary for reviewing and paying a claim.

The application tool can be reviewed at https://img.exim.gov/s3fs-public/pub/pending/eib10-05.pdf.

Title and Form Number: EIB 10-05, Notice of Claim Proof of Loss Medium- and Long-term Guarantee.

OMB Number: 3048-0034.

Type of Review: Regular.

Need and Use: The information collected will provide information needed to determine compliance for claim requests submitted to the Export-Import Bank under its guarantee loan programs.

Affected Public: This form affects entities involved in the export of U.S. goods and services.

Annual Number of Respondents: 15.

Estimated Time per Respondent: 60 minutes.

Annual Burden Hours: 15 hours.

Frequency of Reporting or Use: As needed.

Dated: May 20, 2024.
Andrew Smith,
Records Officer.

[FR Doc. 2024-11416 Filed 5-23-24; 8:45 am]

BILLING CODE 6690-01-P